DEPARTMENT OF ENERGY

Biological and Environmental Research Advisory Committee

AGENCY: Office of Science, Department of Energy.

ACTION: Notice of Renewal.

SUMMARY: Pursuant to section 14(a)(2)(A) of the Federal Advisory Committee Act, (Pub. L. 92-463) and in accordance with title 41 of the Code of Federal Regulations, section 102-3.65, and following consultation with the Committee Management Secretariat, General Services Administration, notice is hereby given that the Biological and Environmental Research Advisory Committee's (BERAC) charter will be renewed for a two-year period.

The Committee provides advice and recommendations to the Director, Office of Science on the biological and environmental research programs.

Additionally, the renewal of the BERAC has been determined to be essential to conduct business of the Department of Energy's mission and to be in the public interest in connection with the performance of duties imposed upon the Department of Energy by law and agreement. The Committee will operate in accordance with the provisions of the Federal Advisory Committee Act, and rules and regulations issued in implementation of that Act.

FOR FURTHER INFORMATION CONTACT: Dr. Sharlene C. Weatherwax at (301) 903-3251.

Issued in Washington, DC, on December 11, 2015.
Amy Bodette,
Committee Management Officer.

[FR Doc. 2015-31783 Filed 12-16-15; 8:45 am]

BILLING CODE 6450-01-P